DEPARTMENT OF JUSTICE

Notice of Lodging of Proposed Consent Decree Under the Clean Air Act

On July 29, 2024, the Department of Justice lodged a proposed Consent Decree with the United States District Court for the Middle District of North Carolina in the lawsuit entitled United States v. Rudy's Performance Parts, Inc. and Aaron Rudolf, Civil Action No. 1:22-cv-00495.

The proposed Consent Decree settles the claims in the Complaint filed on June 29, 2022, which alleges that Defendants violated section 203(a) of the CAA (42 U.S.C. 7522(a) by manufacturing, selling, offering to sell, and installing aftermarket automotive products that bypass, defeat, or render inoperative motor vehicle emission controls and by failing to provide information requested by EPA. The Consent Decree settles the action by requiring Defendants to pay a $7 million penalty and comply with various measures detailed in the Consent Decree that are designed to present CAA violations from re-occurring.

The publication of this notice opens a period for public comment on the Consent Decree. Comments should be addressed to the Assistant Attorney General, Environment and Natural Resources Division, and should refer to United States v. Rudy's Performance Parts, Inc. and Aaron Rudolf, D.J. Ref. No. 90-5-2-1-11963. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. If you require assistance accessing Consent Decree, you may request assistance by email or by mail to the addresses provided above for submitting comments.

Jeffrey Sands,
Deputy Section Chief, Environmental Enforcement Section, Environment and Natural Resources Division.

[FR Doc. 2024-17420 Filed 8-6-24; 8:45 am]

BILLING CODE 4410-15-P